DEPARTMENT OF COMMERCE

National Oceanic and Atmospheric Administration

RIN: 0648-XO16

Western Pacific Fishery Management Council; Public Meeting

AGENCY: National Marine Fisheries Service (NMFS), National Oceanic and Atmospheric Administration (NOAA), Commerce.

ACTION: Notice of public meetings

SUMMARY: The Western Pacific Fishery Management Council (Council) will hold meetings of its Pelagics Plan Team (PPT), in Honolulu, HI, to discuss fishery issues and develop recommendations for future management.

DATES: The meeting of the PPT will be held on April 29-May 1, 2009, from 8:30 a.m. to 5 p.m. each day.

ADDRESSES: The meeting will be held at the Council Office Conference Room, Western Pacific Fishery Management Council, 1164 Bishop St., Suite 1400, Honolulu, HI 96813; telephone: (808) 522-8220.

FOR FURTHER INFORMATION CONTACT: Kitty M. Simonds, Executive Director; telephone: (808) 522-8220.

SUPPLEMENTARY INFORMATION: The PPT will meet between April 29 and May 1, 2009 at the Council Conference Room to discuss the following agenda items:

Wednesday, April 29, 2009, 8.30 a.m.

1. Introduction

2. Annual Report review

a. Review 2008 Annual Report modules and recommendations

i. CNMI

ii. American Samoa

iii. Guam

iv. Hawaii

v. International

vi. Recreational

b. 2008 Annual Report region wide recommendations

Thursday & Friday, April 30-May 1, 2009, 8.30 a.m.

3. Summary of current Fishery Management Plan amendment actions

4. Hawaii Swordfish Fishery Effort

5. Bigeye tuna quota

6. Conservation and Management Measures from Western and Central Pacific Fishery Commission

7. Analysis of mahimahi and ono catch data

8. Marine Mammal Advisory Committee Recommendations

9. Offshore handline fishery limited entry program

10. Recreational fisheries developments (Marine Recreational Fisheries Improvement Program)

11. Other business

12. Public comments

13. Pelagic Plan Team Recommendations

The order in which the agenda items are addressed may change. The PPT will meet as late as necessary to complete scheduled business.

Although non-emergency issues not contained in this agenda may come before the PPT for discussion, those issues may not be the subject of formal action during these meetings. Plan Team action will be restricted to those issues specifically listed in this document and any issue arising after publication of this document that requires emergency action under section 305(c) of the Magnuson-Stevens Fishery Conservation and Management Act, provided the public has been notified of the Council(s intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: March 13, 2009.
Tracey L. Thompson,
Acting Director, Office of Sustainable Fisheries, National Marine Fisheries Service.

[FR Doc. E9-5797 Filed 3-17-09; 8:45 am]

BILLING CODE 3510-22-S